DEPARTMENT OF COMMERCE

National Oceanic and Atmospheric Administration

RIN 0648-XF771

Western Pacific Fishery Management Council; Public Meetings

AGENCY: National Marine Fisheries Service, National Oceanic and Atmospheric Administration, Commerce.

ACTION: Notice of a public meetings and hearing.

SUMMARY: The Western Pacific Fishery Management Council (Council) will hold a CNMI joint advisory group meeting consisting of the Council's CNMI Regional Ecosystem Advisory Committee (REAC), CNMI Fishery Ecosystem Plan (FEP) Advisory Panel (AP) and CNMI members of its Plan Team, Fishing Industry Advisory Committee (FIAC), Scientific and Statistical Committee (SSC), and Marine Planning and Climate Change Committee (MPCCC); and a Guam joint advisory group meeting consisting of the Council's Guam REAC and Guam members of its Plan Team, FIAC, SSC, and MPCCC to discuss and make recommendations on fishery management issues in the Western Pacific Region.

DATES: The CNMI joint advisory group will meet on Wednesday, November 15, 2017, between 9 a.m. and 4 p.m. and the Guam joint advisory group will meet on Friday, November 17, 2017, between 9 a.m. and 4 p.m. All times listed are local island times.

For specific times and agendas, see SUPPLEMENTARY INFORMATION.

ADDRESSES: The CNMI joint advisory group meeting will be held at Saipan Fiesta Resort and Spa, P.O. Box 50129, Saipan, MP 96950, telephone: (670) 234-6412. The Guam joint advisory group meeting will be held at Hilton Guam Resort and Spa, 202 Hilton Road, Tumon Bay, Guam 96913, telephone: (671) 646-1835.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the CNMI Joint Advisory Group Meeting

Wednesday, November 15,9 a.m.-4 p.m.

1. Welcome and Introductions

2. Essential Fish Habitat

A. Update on Habitat Program

B. EFH Levels of Information

C. Review of Non-Fishing Impacts to EFH

D. Coordination on Non-Fishing Issues

3. Aquaculture Management

4. Public Comment

5. Other Business

6. Discussion and Recommendations

7. Training on Climate and Fisheries

A. Reason for Training

I. Annual Stock Assessment and Fishery Evaluation Report

II. Fishing community outreach

B. Overview of Indicators

C. Climate variability: Oceanic nino index, pacific decadal oscillation

I. Overview and questions

II. Small group discussions

III. Plenary report out and discussion

D. Heat: Sea Surface Temperature, Degree Heating Week

E. Ocean acidification: Oceanic pH

F. Catchability: Sea level, sea surface height, wave energy and related factors (rough seas, winds, turbidity)

G. Discussion on scope of climate indicators being monitored

Schedule and Agenda for the Guam Joint Advisory Group Meeting

Friday, November 17, 2017,9 a.m.-4 p.m.

1. Welcome and Introductions

2. Essential Fish Habitat

A. Update on Habitat Program

B. EFH Levels of Information

C. Review of Non-Fishing Impacts to EFH

D. Coordination on Non-Fishing Issues

3. Aquaculture Management

4. Public Comment

5. Other Business

6. Discussion and Recommendations

7. Training on Climate and Fisheries

A. Reason for Training

I. Annual Stock Assessment and Fishery Evaluation Report

II. Fishing community outreach

B. Overview of Indicators

C. Climate variability: Oceanic nino index, pacific decadal oscillation

I. Overview and questions

II. Small group discussions

III. Plenary report out and discussion

D. Heat: Sea Surface Temperature, Degree Heating Week

E. Ocean acidification: Oceanic pH

F. Catchability: Sea level, sea surface height, wave energy and related factors (rough seas, winds, turbidity)

G. Discussion on scope of climate indicators being monitored

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 18, 2017.
Tracey L. Thompson,
Acting Deputy Director, Office of Sustainable Fisheries, National Marine Fisheries Service.

[FR Doc. 2017-22905 Filed 10-20-17; 8:45 am]

BILLING CODE 3510-22-P